DEPARTMENT OF HOMELAND SECURITY

Federal Emergency Management Agency

[Docket ID FEMA-2025-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: David Bascom, Acting Director, Engineering and Modeling Division, Risk Analysis, Planning & Information Directorate, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The current effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Jeffrey Jackson,
Deputy Assistant Administrator, Federal Insurance Directorate, Resilience, Federal Emergency Management Agency, Department of Homeland Security.

State and county | Location and case No. | Chief executive officer of community | Community map repository | Date of modification | Community No.
Alabama:
Lee (FEMA Docket No.: B-2517). | City of Auburn (25-04-0327P) | The Honorable Ron Anders Jr., Mayor, City of Auburn, 144 Tichenor Avenue, Suite 1, Auburn, AL 36830. | City Hall, 144 Tichenor Avenue, Auburn, AL 36830. | Jul. 7, 2025 | 010144
Lee (FEMA Docket No.: B-2517). | Unincorporated areas of Lee County (25-04-0327P). | The Honorable Bill English, Probate Judge, Lee County, 215 South 9th Street, Opelika, AL 36801. | Lee County Emergency Management Agency, 908 Avenue B, Opelika, AL 36801. | Jul. 7, 2025 | 010250
California:
Los Angeles (FEMA Docket, No.: B-2514). | Unincorporated areas of Los Angeles County (24-09-1197P). | Fesia Davenport, Chief Executive Officer, Los Angeles County, 500 West Temple Street, Room 713, Los Angeles, CA 90012. | Los Angeles County Public Works, Stormwater Engineering Department, 900 South Fremont Avenue, 2nd Floor, Alhambra, CA 91803. | Jun. 30, 2025 | 065043
San Diego (FEMA Docket, No.: B-2514). | City of San Diego (25-09-0103X). | The Honorable Todd Gloria, Mayor, City of San Diego, 202 C Street, 11th Floor, San Diego, CA 92101. | Stormwater Department, 9370 Chesapeake Drive, Suite 100, San Diego, CA 92123. | Jun. 12, 2025 | 060295
San Diego (FEMA Docket, No.: B-2514). | Unincorporated areas of San Diego County (24-09-0514P). | The Honorable Nora Vargas, Chair, San Diego County Board of Supervisors, 1600 Pacific Highway, Room 335, San Diego, CA 92101. | San Diego County Flood Control District, Department, of Public Works, 5510 Overland Avenue, Suite 410, San Diego, CA 92123. | Jun. 16, 2025 | 060284
Santa Clara (FEMA Docket, No.: B-2514). | City of Morgan Hill (24-09-0336P). | The Honorable Mark Turner, Mayor, City of Morgan Hill, 17575 Peak Avenue, Morgan Hill, CA 95037. | City Clerk's Office, 17575 Peak Avenue, Morgan Hill, CA 95037. | Jun. 23, 2025 | 060346
Ventura (FEMA Docket, No.: B-2514). | City of Simi Valley (25-09-0102X). | The Honorable Dee Dee Cavanaugh, Mayor Pro Tem, City of Simi Valley, 2929 Tapo Canyon Road, Simi Valley, CA 93063. | City Hall, 2929 Tapo Canyon Road, Simi Valley, CA 93063. | Jun. 13, 2025 | 060421
Yolo (FEMA Docket, No.: B-2514). | City of Winters (25-09-0105X). | Jeremy Craig, Manager, City of Winters, 318 1st Street, Winters, CA 95694. | City Hall, 318 1st Street, Winters, CA 95694. | Jun. 12, 2025 | 060425
Colorado:
Boulder (FEMA Docket, No.: B-2514). | Unincorporated areas of Boulder County (24-08-0144P). | The Honorable Ashley Stolzmann, Chair, Boulder County, Board of Commissioners, 1325 Pearl Street, Boulder CO 80302. | Boulder County Transportation Department, 2525 13th Street, Suite 203, Boulder, CO 80304. | Jun. 23, 2025 | 080023
Broomfield (FEMA Docket, No.: B-2514). | City and County of Broomfield (24-08-0039P). | The Honorable Guyleen Castriotta, Mayor, City and County of Broomfield, 1 DesCombes Drive, Broomfield, CO 80020. | City and County of Broomfield Engineering Department, 1 DesCombes Drive, Broomfield, CO 80020. | Jun. 16, 2025 | 085073
Larimer (FEMA Docket, No.: B-2514). | City of Fort Collins (24-08-0555X). | The Honorable Jeni Arndt, Mayor, City of Fort Collins, P.O. Box 580, Fort Collins, CO 80522. | Stormwater Utilities Department, 700 Wood Street, Fort Collins, CO 80521. | Jun. 16, 2025 | 080102
Florida:
Baker (FEMA Docket No.: B-2517). | Unincorporated areas of Baker County (24-04-6923P). | The Honorable Jimmy Anderson, Chair, Baker County Board of Commissioners, 55 North 3rd Street, MacClenny, FL 32063. | Baker County Community Development Department, 360 East Shuey Avenue, MacClenny, FL 32063. | Jul. 18, 2025 | 120419
Bay (FEMA Docket No.: B-2520). | City of Panama City (24-04-5173P). | The Honorable Michael Rohan Sr., Mayor, City of, Panama City, 501 Harrison Avenue, Panama City, FL 32401. | Public Works Department, Engineering Division, 501 Harrison Avenue, Panama City, FL 32401. | Jul. 17, 2025 | 120012
Bay (FEMA Docket No.: B-2517). | City of Panama City Beach (24-04-4993P). | The Honorable Stuart Tettemer, Mayor, City of Panama City Beach, 17007 Panama City Beach Parkway, Panama City Beach, FL 32413. | Building Department, 116 South Arnold Road, Panama City Beach, FL 32413. | Jul. 10, 2025 | 120013
Hillsborough (FEMA Docket No.: B-2520). | City of Tampa (24-04-6556P). | The Honorable Jane Castor, Mayor, City of Tampa, 306 East Jackson Street, Tampa, FL 33602. | City Hall, 306 East Jackson Street, Tampa, FL 33602. | Jul. 21, 2025 | 120114
Miami-Dade (FEMA Docket No.: B-2522). | Unincorporated areas of Miami-Dade County (24-04-1524P). | Marina Blanco Pape, Division Director, Miami-Dade Regulatory and Economic Resources, Water Management Division, 701 Northwest 1st Court, 5th Floor, Miami, FL 33136. | Miami-Dade Regulatory and Economic Resources, Overtown Transit Village North Water Management Division, 701 Northwest 1st Court, 5th Floor, Miami, FL 33136. | Jul. 16, 2025 | 120635
Orange (FEMA Docket No.: B-2517). | City of Orlando (24-04-0556P). | The Honorable Buddy Dyer, Mayor, City of Orlando, 400 South Orange Avenue, Orlando, FL 32801. | Public Works Department, Engineering Division, 400 South Orange Avenue, Orlando, FL 32801. | Jul. 15, 2025 | 120186
Orange (FEMA Docket No.: B-2517). | City of Orlando (24-04-4587P). | The Honorable Buddy Dyer, Mayor, City of Orlando, 400 South Orange Avenue, Orlando, FL 32801. | Public Works Department, Engineering Division, 400 South Orange Avenue, Orlando, FL 32801. | Jul. 17, 2025 | 120186
Orange (FEMA Docket No.: B-2517). | City of Orlando (24-04-6542P). | The Honorable Buddy Dyer, Mayor, City of Orlando, 400 South Orange Avenue, Orlando, FL 32801. | Public Works Department, Engineering Division, 400 South Orange Avenue, Orlando, FL 32801. | Jul. 11, 2025 | 120186
Polk (FEMA Docket No.: B-2522). | Unincorporated areas of Polk County (24-04-7668P). | Bill Beasley, Polk County Manager, 330 West Church Street, Bartow, FL 33831. | Polk County Land Development Division, Floodplain Manager, Drawer GM03, 330 West Church Street, Bartow, FL 33831. | Jul. 17, 2025 | 120261
Idaho:
Shoshone (FEMA Docket, No.: B-2514). | City of Osburn (25-10-0077P). | The Honorable Kip McGillivray, Mayor, City of Osburn, P.O. Box 865, Osburn, ID 83849. | City Clerk's Office, 921 East Mullan Avenue, Osburn, ID 83849. | Jun. 23, 2025 | 160116
Shoshone (FEMA Docket, No.: B-2514). | Unincorporated areas of Shoshone County (25-10-0077P). | The Honorable Jeff Zimmerman, Chair, Shoshone County Board of Commissioners, 700 Bank Street, Suite 120, Wallace, ID 83873. | Shoshone County Planning & Zoning Department, 700 Bank Street, Suite 25, Wallace, ID 83873. | Jun. 23, 2025 | 160114
Illinois: Will (FEMA Docket No.: B-2517). | Village of Romeoville (23-05-2250P). | The Honorable John D. Noak, Mayor, Village of Romeoville, 1050 West Romeo Road, Romeoville, IL 60446. | Village Hall, 1050 West Romeo Road, Romeoville, IL 60446. | Jul 7, 2025 | 170711
Indiana:
Morgan (FEMA Docket No.: B-2520). | Town of Mooresville (24-05-1099P). | Tom Warthen, President, Town of Mooresville Council, 4 East Harrison Street, Mooresville, IN 46158. | Public Works Department, 4 East Harrison Street, Mooresville, IN 46158. | Jul. 18, 2025 | 180334
Morgan (FEMA Docket No.: B-2520). | Unincorporated areas of Morgan County (24-05-1099P). | The Honorable Don Adams, President, Morgan County Board of Commissioners, 180 South Main Street, Suite 112, Martinsville, IN 46151. | Morgan County Administration Building, 180 South Main Street, Martinsville, IN 46151. | Jul. 18, 2025 | 180176
New Mexico: Bernalillo (FEMA Docket No.: B-2522). | Unincorporated areas of Bernalillo County (23-06-1906P). | Cindy Chavez, Manager, Bernalillo County, 415 Silver Avenue Southwest, Albuquerque, NM 87102. | Bernalillo County Clerk's Office, 415 Silver Avenue Southwest, Albuquerque, NM 87102. | Jul. 17, 2025 | 350001
North Carolina:
Alleghany (FEMA Docket No.: B-2531). | Town of Sparta (24-04-4324P). | The Honorable Mike Parlier, Mayor Pro Tem, Town of Sparta, P.O. Box 99, Sparta, NC 28675. | Planning Department, 304 South Main Street, Sparta, NC 28675. | Jul. 17, 2025 | 370005
Mecklenburg (FEMA Docket No.: B-2522). | Town of Davidson (24-04-3518P). | The Honorable Rusty Knox, Mayor, Town of Davidson, P.O. Box 579, Davidson, NC 28036. | Charlotte-Mecklenburg Storm Water Services, 2145 Suttle Avenue, Charlotte, NC 28208. | Aug. 1, 2025 | 370503
Polk (FEMA Docket No.: B-2517). | Unincorporated areas of Polk County (23-04-6093P). | The Honorable Myron Yoder, Chair, Polk County Board of Commissioners, P.O. Box 308, Columbus, NC 28722. | Polk County Planning and Zoning Department, 35 Walker Street, Columbus, NC 28722. | Jul. 9, 2025 | 370194
Wake (FEMA Docket No.: B-2517). | Town of Apex (24-04-7904P). | The Honorable Jacques Gilbert, Mayor, Town of Apex P.O. Box 250, Apex, NC 27502. | Engineering Department, 73 Hunter Street, Apex, NC 27502. | Jul. 18, 2025 | 370467
Ohio:
Fairfield (FEMA Docket No.: B-2517). | Unincorporated areas of Fairfield County (24-05-0603P). | The Honorable Aundrea Cordle, Fairfield County Administrator, 210 East Main Street, Room 301, Lancaster, OH 43130. | Fairfield County Administration Building, 138 West Chestnut Street, Lancaster, OH 43130. | Jul. 14, 2025 | 390158
Franklin (FEMA Docket No.: B-2517). | Village of Canal Winchester (24-05-0603P). | The Honorable Joe Steager, Mayor, Village of Canal Winchester, 45 East Waterloo Street, Canal Winchester, OH 43110. | Fairfield County Records Center, 45 East Waterloo Street, Canal Winchester, OH 43110. | Jul. 14, 2025 | 390169
Oklahoma: Canadian (FEMA Docket No.: B-2520). | City of Oklahoma City (24-06-2550P). | The Honorable David Holt, Mayor, City of Oklahoma City, 200 North Walker Avenue, 3rd Floor, Oklahoma City, OK 73102. | Public Works Department, 420 West Main Street, Suite 700, Oklahoma City, OK 73102. | Jul. 21, 2025 | 405378
Oregon:
Washington (FEMA Docket, No.: B-2514). | City of Hillsboro (24-10-0025P). | The Honorable Beach Pace, Mayor, City of Hillsboro, 150 East Main Street, Hillsboro, OR 97123. | Community Development Department, 150 East Main Street, Hillsboro, OR 97123. | Jun. 13, 2025 | 410243
Washington (FEMA Docket, No.: B-2514). | Unincorporated areas of Washington County (24-10-0025P). | Kathryn Harrington, Chair, Washington County Board of Commissioners, 155 North 1st Avenue, Suite 300, Hillsboro, OR 97124. | Washington County Public Services Building, 155 North 1st Avenue, Suite 350, MS13, Hillsboro, OR 97124. | Jun. 13, 2025 | 410238
Texas:
Collin (FEMA Docket No.: B-2517). | City of Celina (24-06-1831P). | The Honorable Ryan Tubbs, Mayor, City of Celina, 142 North Ohio Street, Celina, TX 75009. | City Hall, 142 North Ohio Street, Celina, TX 75009. | Jul. 14, 2025 | 480133
Collin (FEMA Docket No.: B-2522). | City of Lowry Crossing (24-06-0314P). | The Honorable Bob C. Petitt, Mayor, City of Lowry Crossing, 1405 South Bridgefarmer Road, Lowry Crossing, TX 75069. | City Hall, 1405 South Bridgefarmer Road, Lowry Crossing, TX 75069. | Jul. 14, 2025 | 481631
Collin (FEMA Docket No.: B-2522). | Town of Prosper (24-06-1112P). | The Honorable David F. Bristol, Mayor, Town of Prosper, 250 West 1st Street, Prosper, TX 75078. | Town Hall, 250 West 1st Street, Prosper, TX 75078. | Jul. 14, 2025 | 480141
Collin (FEMA Docket No.: B-2522). | Unincorporated areas of Collin County (24-06-0314P). | The Honorable Chris Hill, Collin County Judge, 2300 Bloomdale Road, Suite 4192, McKinney, TX 75071. | Juvenile Justice Alternative Education Program Building, 4690 Community Avenue, Suite 200, McKinney, TX 75071. | Jul. 14, 2025 | 480130
Collin (FEMA Docket No.: B-2517). | Unincorporated areas of Collin County (24-06-1831P). | The Honorable Chris Hill, Collin County Judge, 2300 Bloomdale Road, Suite 4192, McKinney, TX 75071. | Juvenile Justice Alternative Education Program Building, 4690 Community Avenue, Suite 200, McKinney, TX 75071. | Jul. 14, 2025 | 480130
Dallas (FEMA Docket No.: B-2522). | City of Dallas (24-06-1960P). | Kimberly Bizor Tolbert, Manager, City of Dallas, 1500 Marilla Street, Room 4EN, Dallas, TX 75201. | Stormwater Operations Department, 2245 Irving Boulevard, 2nd Floor, Dallas, TX 75207. | Jul. 14, 2025 | 480171
Denton (FEMA Docket No.: B-2520). | City of Celina (24-06-1095P). | The Honorable Ryan Tubbs, Mayor, City of Celina, 142 North Ohio Street, Celina, TX 75009. | City Hall, 142 North Ohio Street, Celina, TX 75009. | Jul. 21, 2025 | 480133
Denton (FEMA Docket No.: B-2522). | Unincorporated areas of Denton County (24-06-1044P). | The Honorable Andy Eads, Denton County Judge, 1 Courthouse Drive, Suite 3100, Denton, TX 76208. | Denton County Development Services Department, 3900 Morse Street, Denton, TX 76208. | Jul. 15, 2025 | 480774
Denton (FEMA Docket No.: B-2520). | Unincorporated areas of Denton County (24-06-1095P). | The Honorable Andy Eads, Denton County Judge, 1 Courthouse Drive, Denton, TX 76208. | Denton County Development Services Department, 3900 Morse Street, Denton, TX 76208. | Jul. 21, 2025 | 480774
Gillespie (FEMA Docket No.: B-2522). | Unincorporated areas of Gillespie County (24-06-1005P). | The Honorable Daniel Jones, Gillespie County Judge, 101 West Main Street, Mail Unit 9, Fredericksburg, TX 78624. | Gillespie County Courthouse, 101 West Main Street, Fredericksburg, TX 78624. | Jul. 17, 2025 | 480696
Johnson (FEMA Docket No.: B-2520). | City of Cleburne (24-06-1581P). | The Honorable Scott Cain, Mayor, City of Cleburne, P.O. Box 677, Cleburne, TX 76033. | City Hall, 10 North Robinson Street, Cleburne, TX 76031. | Jul. 11, 2025 | 485462
Virginia: Prince William (FEMA Docket No.: B-2520). | Unincorporated areas of Prince William County (24-03-0863P). | The Honorable Deshundra Jefferson, Chair at-Large, Prince William County Board of Supervisors, 1 County Complex Court, Prince William, VA 22192. | Prince William County Department of Public Works, Environmental Management Division, 5 County Complex Court, Suite 170, Prince William, VA 22192. | Jul. 18, 2025 | 510119

[FR Doc. 2025-15877 Filed 8-19-25; 8:45 am]

BILLING CODE 9110-12-P